DEPARTMENT OF EDUCATION

[CFDA No.: 84.144]

Migrant Education Program (MEP) Consortium Incentive Grants Program

ACTION: Notice inviting applications for new awards for fiscal year 2002; Correction.

SUMMARY: The deadline for intergovernmental review for the FY 2002 Migrant Education Program (MEP) Consortium Incentive Grants program has been changed from August 2, 2002 to July 3, 2002. This notice corrects the deadline in the notice published in the Federal Register on April 26, 2002 (67 FR 20756).

FOR FURTHER INFORMATION CONTACT: Call or write James English, U.S. Department of Education, Office of Elementary and Secondary Education, Office of Migrant Education, 400 Maryland Ave., SW., Room 3E315, FOB6, Washington, DC, 20202-6135. Telephone: (202) 260-1394. Inquiries may be sent by e-mail to james.english@ed.gov or by FAX at (202) 205-0089.

If you use a telecommunications device for the deaf (TDD), you may call the Federal Information Relay Service (FIRS) at 1-800-877-8339. Individuals with disabilities Braille, large print, audiotape or computer diskette) on request to the contact person listed in the preceding paragraph.

SUPPLEMENTARY INFORMATION: In order to permit the FY 2002 MEP Consortium Incentive Grants to be awarded without delay once the FY 2002 funds become available in early July, 2002, the Assistant Secretary for Intergovernmental and Interagency Affairs has waived the 60-day period for intergovernmental review required under E.O. 12372. Instead, the intergovernmental review period for these grant applications will be 30 days. In this way, the deadline for intergovernmental review under E.O. 12372 for the MEP Consortium Incentive grants will be July 3, 2002, rather than August 2, 2002 as previously announced in the notice inviting applications for new awards published in the Federal Register on April 26, 2002 (67 FR 20756).

Electronic Access to This Document

You may view this document, as well as all other Department of Education documents published in the Federal Register, in text or Adobe Portable Format (PDF) on the Internet at the following site: www.ed.gov/legislation/FedRegister. To use PDF you must have Adobe Acrobat reader, which is available free at this site. If you have questions about using PDF, call the U.S. Government Printing Office toll free at 1-888-293-6498; or in the Washington, DC area at 202-512-1530.

Note: The official version of this document is the document publishef in the Federal Register. Free Internet access to the official edition of the Federal Register and the Code of Federal Regulations is available on GPO Access at: http://www.access.gpo.gov/nara/index.html.

Program Authority: 20 U.S.C. 6398(d).

Dated: May 6, 2002.
Susan B. Neuman,
Assistant Secretary, for Elementary and Secondary Education.

[FR Doc. 02-11644 Filed 5-9-02; 8:45 am]

BILLING CODE 4000-01-M